DEPARTMENT OF THE INTERIOR

National Park Service

Notice of Inventory Completion: U.S. Department of the Interior, U.S. Fish and Wildlife Service, Region 7, Anchorage, AK

AGENCY: National Park Service, Interior.

ACTION: Notice.

Notice is here given in accordance with the Native American Graves Protection and Repatriation Act (NAGPRA), 25 U.S.C. 3003, of the completion of an inventory of human remains and associated funerary objects in the possession of the U.S. Department of the Interior, U.S. Fish and Wildlife Service, Region 7, Anchorage, AK. The human remains and associated funerary objects were removed from Michigan Rock Cave, near Tanaga Island, Alaska Maritime National Wildlife Refuge, AK.

This notice is published as part of the National Park Service's administrative responsibilities under NAGPRA, 25 U.S.C. 3003 (d)(3). The determinations in this notice are the sole responsibility of the museum, institution, or Federal agency that has control of the Native American human remains and associated funerary objects. The National Park Service is not responsible for the determinations in this notice.

A detailed assessment of the human remains was made by U.S. Fish and Wildlife Service, Region 7 professional staff with assistance from the Alaska State Office of History and Archaeology, in consultation with representatives of the Aleut Corporation; Native Village of Atka, represented by the Atka IRA Council and Atxam Corporation; and Unangan Repatriation Commission, a non-federally recognized Native Alaskan group.

In 1950, human remains representing a minimum of three individuals were removed from the Michigan Rock Cave on a small islet off of Tanaga Island in the Aleutian Islands, Unit of the Alaska Maritime National Wildlife Refuge, AK, by Dr. Theodore P. Bank II, during permitted archeological excavations. The human remains were taken by Dr. Bank to the University of Michigan where they were curated until his death, at which time they were sent to the University of Alaska Fairbanks. U.S. Fish and Wildlife Service was later notified of the existence of the human remains and after consultation with the Aleut Corporation, the human remains were sent to The Museum of the Aleutians in Unalaska, AK. No known individuals were identified. The 21 associated funerary objects are 14 wooden bidarka pieces, 2 pieces of matting, 1 piece of birch bark, 1 bone implement, 1 foreshaft with remnant of iron point, 1 large mammal bulla, and 1 basalt blade.

There are no radiocarbon dates available for the human remains. All known dated cave burials from the Aleutians are younger than 2,000 years old (Black 1982, pg 24; Black 2003, pg 36; Hayes 2002). The burial context and physical traits of the human remains are consistent with those observed for pre-contact Aleut populations.

The Unangan Repatriation Commission, a non-federally recognized Native Alaskan group, provided the U.S. Fish and Wildlife Service with a list of cultural affiliation for islands and corresponding village corporations and tribal entities. No corporation or tribe specifically claims Tanaga Island. Cultural affiliation of Aleut ancestors from unclaimed islands lies with the Aleut Corporation, the regional corporation representing all Aleut people. After Russian contact with the Aleutians began in A.D. 1751, the population declined precipitously. By the 1790s, many of the Aleuts were concentrated in a small number of regional centers. For the western Aleutians, most were removed to the Native Village of Atka. Therefore, based on historical records, geographic location, and information presented during consultation, it is reasonably determined that the descendants of Tanaga Island are members of the present-day Aleut Corporation and Native Village of Atka.

Officials of the U.S. Fish and Wildlife Service, Region 7 have determined that, pursuant to 25 U.S.C. 3001 (9-10), the human remains described above represent the physical remains of three individuals of Native American ancestry. Officials of the U.S. Fish and Wildlife Service, Region 7 also have determined that, pursuant to 25 U.S.C. 3001 (3)(A), the 21 objects described above are reasonably believed to have been placed with or near individual human remains at the time of death or later as part of the death rite or ceremony. Lastly, officials of the U.S. Fish and Wildlife Service, Region 7 have determined that, pursuant to 25 U.S.C. 3001 (2), there is a relationship of shared group identity that can be reasonably traced between the Native American human remains and associated funerary objects and the Aleut Corporation and Native Village of Atka.

Representatives of any other Indian tribe that believes itself to be culturally affiliated with the human remains and associated funerary objects should contact Debra Corbett, U.S. Fish and Wildlife Service, 1011 East Tudor Road, Anchorage, AK 99503, telephone (907) 786-3399, before August 13, 2008. Repatriation of the human remains and associated funerary objects to the Aleut Corporation and Native Village of Atka may proceed after that date if no additional claimants come forward.

U.S. Fish and Wildlife Service, Region 7 is responsible for notifying the Aleut Corporation; Aleutian/Pribilof Islands Association, Inc.; Atxam Corporation; and Native Village of Atka that this notice has been published.

Dated: June 5, 2008
Sherry Hutt,
Manager, National NAGPRA Program.

[FR Doc. E8-15901 Filed 7-11-08; 8:45 am]

BILLING CODE 4312-50-S